ENVIRONMENTAL PROTECTION AGENCY

[FRL-8030-5]

National Advisory Council for Environmental Policy and Technology Environmental Technology Subcommittee

AGENCY: Environmental Protection Agency (EPA).

ACTION: Notification of Public Advisory Committee Teleconference Meeting.

SUMMARY: Under the Federal Advisory Committee Act, Public Law 92-463, EPA gives notice of a public teleconference of the National Advisory Council for Environmental Policy and Technology (NACEPT) Environmental Technology Subcommittee. The Environmental Technology Subcommittee was formed to assist EPA in evaluating its current and potential role in the development and commercialization of environmental technologies by suggesting how to optimize existing EPA programs to facilitate the development of sustainable private sector technologies, and by suggesting alternative approaches to achieving these goals. The teleconference is being held to discuss any final revisions to the Subcommittee's first report before it is forwarded to the NACEPT Council for review. Due to extending circumstances, this meeting is being scheduled on short notice.

DATES: The NACEPT Environmental Technology Subcommittee will hold a public teleconference on Wednesday, February 15 from 1-3 p.m.

ADDRESSES: The teleconference will be held in the U.S. EPA Office of Cooperative Environmental Management at 655 15th Street, NW., Suite 800, Washington, DC 20005.

FOR FURTHER INFORMATION CONTACT: Mark Joyce, Designated Federal Officer, joyce.mark@epa.gov, 202-233-0068, U.S. EPA, Office of Cooperative Environmental Management (1601E), 1200 Pennsylvania Avenue, NW., Washington, DC 20460.

SUPPLEMENTARY INFORMATION: Requests to make oral comments or provide written comments to the Subcommittee should be sent to Mark Joyce, Designated Federal Officer, at the contact information above by February 10, 2005. The public is welcome to attend all portions of the meeting, but seating is limited and is allocated on a first-come, first-served basis. Members of the public wishing to gain access to the conference room on the day of the meeting must contact Mark Joyce at 202-233-0068 or joyce.mark@epa.gov by Tuesday, February 14.

Meeting Access: For information on access or services for individuals with disabilities, please contact Mark Joyce at 202-233-0068 or joyce.mark@epa.gov. To request accommodation of a disability, please contact Mark Joyce, preferably by February 10 at the latest, to give EPA as much time as possible to process your request.

Dated: January 31, 2006.
Mark Joyce,
Designated Federal Officer.

[FR Doc. 06-1223 Filed 2-8-06; 8:45 am]

BILLING CODE 6560-50-M